DEPARTMENT OF AGRICULTURE

Forest Service

Lake Tahoe Basin Federal Advisory Committee

AGENCY: Forest Service, USDA.

ACTION: Notice of meeting.

SUMMARY: The Lake Tahoe Basin Federal Advisory Committee (LTFAC) will hold a meeting on February 23, 2010 at Sierra Nevada College, 999 Tahoe Boulevard, Incline Village, Nevada 89451-9500.

This Committee, established by the Secretary of Agriculture on December 15, 1998 (64 FR 2876), is chartered to provide advice to the Secretary on implementing the terms of the Federal Interagency Partnership on the Lake Tahoe Region and other matters raised by the Secretary.

DATES: The meeting will be held February 23, 2010 beginning at 9 a.m. and ending at 4 p.m.

ADDRESSES: The meeting will be held at Sierra Nevada College, 999 Tahoe Boulevard, Incline Village, Nevada 89451-9500.

FOR FURTHER INFORMATION CONTACT: Arla Hams, Lake Tahoe Basin Management Unit (LTBMU), Forest Service, 35 College Drive, South Lake Tahoe, CA 96150, (530) 543-2773.

SUPPLEMENTARY INFORMATION: Items to be covered on the agenda include:

• The Tahoe Working Group (TWG) will present their Lake Tahoe Southern Nevada Public Land Management Act (SNPLMA) Round 11 recommendation for capital projects and science themes. The LTFAC will discuss and with possible consensus, put forward a preliminary recommendation for public comment.

• Discuss the status of re-chartering and member nominations for the next LTFAC two year term.

• Public Comment.

Issues may be brought to the attention of the Committee during the open public comment period at the meeting or by filing written statements for the Committee before or after the meeting. Please refer any written comments attention Arla Hams, Lake Tahoe Basin Management Unit at the contact address stated above.

If you have questions concerning special needs for this public meeting, or to request sign language interpretation, contact Linda Lind at (530) 543-2787 or TTY (530) 543-0956, or via e-mail at LLind@fs.fed.us.

If another LTFAC meeting is needed to put forth the Round 11 preliminary recommendation for capital projects and science themes; due to time restraints the Federal Register notice will be published less than 15 calendar days prior to the meeting. There will be timely meeting notification through the LTBMU Web site (http://www.fs.fed.us/r5/ltbmu/local/ltfac).

Dated: February 2, 2010.
Terri Marceron,
Forest Supervisor.

[FR Doc. 2010-2671 Filed 2-8-10; 8:45 am]

BILLING CODE 3410-11-M